FEDERAL COMMUNICATIONS COMMISSION

Network Reliability and Interoperability Council; Charter Renewal

AGENCY: Federal Communications Commission.

ACTION: Notice of charter renewal.

SUMMARY: The Federal Communications Commission has renewed the charter for the “Network Reliability and Interoperability Council (the “Council”) for a 2-year period, through December 29, 2005. The Council is a federal advisory committee under the Federal Advisory Committee Act (Pub. L. 92-463).

DATES: Renewed through December 29, 2005.

ADDRESSES: You may request a copy of the charter by writing to Chief, Network Technology Division, Office of Engineering and Technology, Federal Communications Commission, The Portals II, 445 12th Street, SW., Room 7-A325, Washington, DC 20554; by calling (202) 418-1096; or by faxing (202) 418-1988.

FOR FURTHER INFORMATION CONTACT: Jeffery Goldthorp, the Designated Federal Officer (DFO) at (202) 418-1096 or Jeffery.Goldthorp@fcc.gov. The TTY Number is: (202) 418-2989.

SUPPLEMENTARY INFORMATION: The purpose of the Council is to provide recommendations to the FCC and to the communications industry that, if implemented, shall under all reasonably foreseeable circumstances assure optimal reliability and interoperability of wireless, wireline, satellite, cable, and public data networks.¹ This includes facilitating the reliability, robustness, security, and interoperability of communications networks including emergency communications networks. The scope of this activity also encompasses recommendations that shall ensure the security and sustainability of communications networks throughout the United States; ensure the availability of adequate communications capacity during events or periods of exceptional stress due to natural disaster, terrorist attacks or similar occurrences; and facilitate the rapid restoration of telecommunications services in the event of widespread or major disruptions in the provision of communications services. The Council shall address topics in the following areas:

¹ Public data networks are networks that provide data services for a fee to one or more unaffiliated entities.

1. Emergency Communications Networks Including E911

2. Homeland Security Best Practices

3. Best Practices for Wireless and Public Data Network Services

4. Broadband

Federal Communications Commission.
Marlene H. Dortch,
Secretary.

[FR Doc. 04-944 Filed 1-15-04; 8:45 am]

BILLING CODE 6712-01-U